FEDERAL COMMUNICATIONS COMMISSION

Notice of Public Information Collection(s) Being Reviewed by the Federal Communications Commission for Extension Under Delegated Authority

October 27, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 5, 2004. If you anticipate that you will be submitting comments, but find it difficult to do so within the period of time allowed by this notice, you should advise the contact listed below as soon as possible.

ADDRESSES: Direct all Paperwork Reduction Act (PRA) comments to Les Smith, Federal Communications Commission, 445 12th Street, SW., Room 1-A804, Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-0213.

Title: Section 73.3525, Agreements for Removing Application Conflicts.

Form Number: N/A.

Type of Review: Extension of currently approved collection.

Respondents: Business or other for-profit entities; Not-for-profit institutions.

Number of Respondents: 38.

Estimated Time per Response: 0.25 to 9.0 hours.

Frequency of Response: On occasion reporting requirements; Third party disclosure.

Total Annual Burden: 39 hours.

Total Annual Cost: $61,353.

Needs and Uses: 47 CFR 73.3525 requires applicants for a construction permit for a broadcast station to obtain approval from the FCC to withdraw, dismiss, or amend its application when that application is in conflict with another application pending before the FCC. This request should contain a copy of the agreement and an affidavit of each party to the agreement. In the event that the proposed withdrawal of a conflicting application would unduly impede achievement of a fair, efficient, and equitable distribution of radio service, the FCC must issue an order providing further opportunity to apply for the facilities specified in the application(s) withdrawn. Upon release of this order, 47 CFR 73.3525(b) requires that the party proposing withdrawal of its application give notice in a daily newspaper of general circulation published in the community in which the proposed station would have been located. Additionally, within seven days of the last publication of the notice, the applicant proposing to withdraw shall file with the FCC a statement giving the dates the notice was published, the text of the notice, and the name and location of the newspaper where the notice was published. The newspaper publication gives interested parties an opportunity to apply for the facilities specified in the withdrawn application(s).

OMB Number: 3060-0727.

Title: Section 73.213, Grandfathered Short-Spaced Stations.

Form Numbers: FCC Form 301 and Form 340.

Type of Review: Extension of currently approved collection.

Respondents: Business or other for-profit entities.

Number of Respondents: 15.

Estimated Time per Response: 0.5 hours.

Frequency of Response: On occasion reporting requirement; Third party disclosure.

Total Annual Burden: 9 hours.

Total Annual Costs: $10,810.

Needs and Uses: 47 CFR 73.213 requires licensees of grandfathered short-spaced FM stations seeking to modify or relocate their stations to provide a showing demonstrating that there is no increase in either the total predicted interference area or the associated population (caused or received) with respect to all grandfathered stations or increase the interference caused to any individual stations. Applicants must demonstrate that any new area predicted to lose service as a result of interference has adequate service remaining. In addition, licensees are required to serve a copy of any application for co-channel or first-adjacent channel stations proposing predicted interference caused in any area where interference is not currently predicted to be caused upon the licensee(s) of the affected short-spaced station(s). The FCC uses the data to determine if the public interest will be served and that existing levels of interference will not be increased to other licensed stations. Providing copies of application(s) to affected licensee(s) enables potentially affected parties to examine the proposals and to provide the parties with an opportunity to file informal objections against such applications.

OMB Control Number: 3060-0928.

Title: Application for Class A Television Broadcast Station Construction Permit or License, FCC Form 302-CA.

Form Number: FCC 302-CA.

Type of Review: Extension of currently approved collection.

Respondents: Businesses or other for-profit entities; Not-for-profit institutions.

Number of Respondents: 300.

Estimated Hours per Response: 2 hours.

Frequency of Response: On occasion reporting requirements.

Total Annual Burden: 600.

Total Annual Cost: $66,000.

Needs and Uses: LPTV stations use FCC Form 302-CA when applying to convert to Class A status and for existing Class A stations to file for a license to cover a construction permit. The Form 302-CA requires a series of certifications by the Class A applicant as prescribed by the CBPA. Licensees are required to provide weekly announcements to their listeners informing them that the applicant has applied for a Class A license and announcing the public's ability to comment on the application prior to Commission action. FCC staff use the data to confirm that the station has met the eligibility standards to convert their licenses to Class A status. The Form 302-CA data are also included any subsequent license to operate the station.

OMB Control Number: 3060-0932.

Title: Application for Authority to Make Changes in a Class A TV Broadcast Station, FCC Form 301-CA.

Form Number: FCC 301-CA.

Type of Review: Extension of currently approved collection.

Respondents: Businesses or other for-profit entities; Not-for-profit institutions; State, local or tribal government.

Number of Respondents: 300.

Estimated Time per Response: 2 to 5 hours.

Frequency of Response: On occasion reporting requirements; Third party disclosure.

Total Annual Burden: 2,100.

Total Annual Costs: $1,709,400.

Needs and Uses: Class A television station licensees use FCC Form 301-CA to make changes in the authorized facilities of their stations. The FCC 301-CA requires applicants to certify compliance with certain statutory and regulatory requirements. Detailed instructions provide additional information about FCC rules and policies. Class A applicants are also subject to third party disclosure requirements under 47 CFR 73.3580, which requires public notice in a local newspaper when filing all applications for major changes in facilities. A copy of this notice must be placed in the public inspection file along with the application. The FCC 301-CA is designed to track the standards and criteria that the Commission applies to determine compliance and to increase the reliability of applicant certifications. Form 301-CA is not intended to be a substitute for familiarity with the Communications Act and FCC regulations, policies, and precedents.

Federal Communications Commission.
Marlene H. Dortch,
Secretary.

[FR Doc. 03-27737 Filed 11-4-03; 8:45 am]

BILLING CODE 6712-01-P